DEPARTMENT OF COMMERCE

International Trade Administration

[A-570-890]

Wooden Bedroom Furniture From the People's Republic of China: Final Results of Antidumping Duty New Shipper Reviews

AGENCY: Import Administration, International Trade Administration, Department of Commerce.

DATES: Effective Date: February 22, 2011.

SUMMARY: On November 26, 2010, the Department of Commerce (“Department”) published the preliminary results of the new shipper reviews of the antidumping duty order on wooden bedroom furniture (“WBF”) from the People's Republic of China (“PRC”) covering sales of subject merchandise made by Dongguan Huansheng Furniture Co., Ltd. (“Huansheng”); Hangzhou Cadman Trading Co., Ltd. (“Cadman”); and Wanvog Furniture (Kunshan) Co., Ltd. (“Wanvog”).¹ In accordance with 19 CFR 351.309(c)(ii), we gave interested parties an opportunity to comment on the Preliminary Results. Based on our analysis of the comments received, the Department has made changes to the Preliminary Results. The final dumping margins are listed below in the section entitled “Final Results of the New Shipper Reviews.”

¹ See Wooden Bedroom Furniture From the People's Republic of China: Preliminary Results of Antidumping Duty New Shipper Reviews, 75 FR 72794 (November 26, 2010) (“Preliminary Results”).

FOR FURTHER INFORMATION CONTACT: Rebecca Pandolph or Jeffrey Pedersen, AD/CVD Operations, Office 4, Import Administration, International Trade Administration, U.S. Department of Commerce, 14th Street and Constitution Avenue, NW., Washington, DC 20230; telephone: (202) 482-3627 and (202) 482-2769, respectively.

SUPPLEMENTARY INFORMATION: We published the Preliminary Results for these new shipper reviews on November 26, 2010. In the Preliminary Results, the Department stated that interested parties were to submit case briefs within 30 days of publication of the Preliminary Results and rebuttal briefs within five days after the due date for filing case briefs.² On December 9, 2010, the Department extended the deadlines for the case briefs and rebuttal briefs until January 3, 2011 and January 10, 2011, respectively.³ On January 3, 2011, the Department received case briefs from Huansheng and Wanvog. On January 10, 2011, the Department received a letter in lieu of a rebuttal brief from Cadman.

² See Preliminary Results, 75 FR at 72800.

³ See Memorandum to All Interested Parties regarding, “Antidumping Duty Administrative Review of Wooden Bedroom Furniture from the People's Republic of China,” dated December 9, 2010.

Period of Review

The period of review (“POR”) is January 1, 2009, through December 31, 2009.

Scope of the Order

The product covered by the order is WBF. WBF is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,⁴ highboys,⁵ lowboys,⁶ chests of drawers,⁷ chests,⁸ door chests,⁹ chiffoniers,¹⁰ hutches,¹¹ and armoires;¹² (6) desks, computer stands, filing cabinets, bookcases, or writing tables that are attached to or incorporated in the subject merchandise; and (7) other bedroom furniture consistent with the above list.

⁴ A chest-on-chest is typically a tall chest-of-drawers in two or more sections (or appearing to be in two or more sections), with one or two sections mounted (or appearing to be mounted) on a slightly larger chest; also known as a tallboy.

⁵ A highboy is typically a tall chest of drawers usually composed of a base and a top section with drawers, and supported on four legs or a small chest (often 15 inches or more in height).

⁶ A lowboy is typically a short chest of drawers, not more than four feet high, normally set on short legs.

⁷ A chest of drawers is typically a case containing drawers for storing clothing.

⁸ A chest is typically a case piece taller than it is wide featuring a series of drawers and with or without one or more doors for storing clothing. The piece can either include drawers or be designed as a large box incorporating a lid.

⁹ A door chest is typically a chest with hinged doors to store clothing, whether or not containing drawers. The piece may also include shelves for televisions and other entertainment electronics.

¹⁰ A chiffonier is typically a tall and narrow chest of drawers normally used for storing undergarments and lingerie, often with mirror(s) attached.

¹¹ A hutch is typically an open case of furniture with shelves that typically sits on another piece of furniture and provides storage for clothes.

¹² An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, bookcases, and entertainment systems; (6) bedroom furniture made primarily of wicker, cane, osier, bamboo or rattan; (7) side rails for beds made of metal if sold separately from the headboard and footboard; (8) bedroom furniture in which bentwood parts predominate; ¹³ (9) jewelry armoires; ¹⁴ (10) cheval mirrors; ¹⁵ (11) certain metal parts; ¹⁶ (12) mirrors that do not attach to, incorporate in, sit on, or hang over a dresser if they are not designed and marketed to be sold in conjunction with a dresser as part of a dresser-mirror set; (13) upholstered beds ¹⁷ and (14) toy boxes.¹⁸

¹³ As used herein, bentwood means solid wood made pliable. Bentwood is wood that is brought to a curved shape by bending it while made pliable with moist heat or other agency and then set by cooling or drying. See CBP's Headquarters Ruling Letter 043859, dated May 17, 1976.

¹⁴ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, concerning “Jewelry Armoires and Cheval Mirrors in the Antidumping Duty Investigation of Wooden Bedroom Furniture from the People's Republic of China,” dated August 31, 2004. See also Wooden Bedroom Furniture From the People's Republic of China: Final Changed Circumstances Review, and Determination To Revoke Order in Part, 71 FR 38621 (July 7, 2006).

¹⁵ Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

¹⁶ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under HTSUS subheadings 9403.90.7005, 9403.90.7010, or 9403.90.7080.

¹⁷ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination To Revoke Order in Part, 72 FR 7013 (February 14, 2007).

¹⁸ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture From the People's Republic of China: Final Results of Changed Circumstances Review and Determination To Revoke Order in Part, 74 FR 8506 (February 25, 2009). Further, as determined in the scope ruling memorandum “Wooden Bedroom Furniture From the People's Republic of China: Scope Ruling on a White Toy Box,” dated July 6, 2009, the dimensional ranges used to identify the toy boxes that are excluded from the wooden bedroom furniture order apply to the box itself rather than the lid.

Imports of subject merchandise are classified under subheadings 9403.50.9042 and 9403.50.9045 ¹⁹ of the U.S. Harmonized Tariff Schedule (“HTSUS”) as “wooden * * * beds” and under subheading 9403.50.9080 of the HTSUS as “other * * * wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheadings 9403.50.9041 or 9403.60.8081.²⁰ Further, framed glass mirrors may be entered under subheading 7009.92.1000 ²¹ or 7009.92.5000 of the HTSUS as “glass mirrors * * * framed.” The order covers all WBF meeting the above description, regardless of tariff classification. Although the HTSUS subheadings are provided for convenience and customs purposes, our written description of the scope of this proceeding is dispositive.

¹⁹ These HTSUS numbers, as well as the numbers in footnote 16, reflect the HTSUS numbers currently in effect. These numbers differ from those used in the last completed antidumping duty administrative review of WBF from the PRC because the HTSUS has been revised.

²⁰ These HTSUS numbers have been added to the scope in this segment of the proceeding.

²¹ Id.

Analysis of Comments Received

All issues raised in the case briefs by parties in these reviews are addressed in the memorandum from Christian Marsh, Deputy Assistant Secretary for Antidumping and Countervailing Duty Operations, to Ronald K. Lorentzen, Deputy Assistant Secretary for Import Administration, “Issues and Decision Memorandum for the Final Results of the 2009 Annual New Shipper Reviews of Wooden Bedroom Furniture from the People's Republic of China,” dated February 14, 2010 (“Issues and Decision Memorandum”), which is hereby adopted by this notice. A list of the issues that parties raised and to which the Department responded in the Issues and Decision Memorandum is attached to this notice as an appendix. The Issues and Decision Memorandum is a public document and is on file in the Central Records Unit in room 7046 in the main Commerce Department building, and is also accessible on the Web at http://ia.ita.doc.gov/frn>. The paper copy and electronic version of the memorandum are identical in content.

Changes Since the Preliminary Results

Based on our analysis of the comments received, we have made the following changes to our Preliminary Results:

• We have recalculated surrogate financial ratios using a different group of financial statements from those used in the Preliminary Results.²²

²² See Issues and Decision Memorandum at Comment 1.

• Due to a ministerial error, we used the wrong surrogate to value Wanvog's non-adhesive expanded polyethylene (“EPE”) input. In the final results, we used data under Philippine Harmonized Tariff Schedule subheading 3920.1090 to value Wanvog's non-adhesive EPE input.²³

²³ See Issues and Decision Memorandum at Comment 2.

• We based the surrogate value for brokerage and handling on the World Bank sub-national reported entitled “Doing Business 2011: Making a Difference for Entrepreneurs” and excluded from the brokerage and handling value the line item for inland transportation and handling.²⁴

²⁴ See Issues and Decision Memorandum at Comment 3.

New Shipper Status

No party has contested the bona fide nature of Cadman's, Huansheng's, or Wanvog's sale(s) during the POR. Therefore, for these final results we find, as in the Preliminary Results, that the new shipper sales made by Cadman, Huansheng, and Wanvog were made on a bona fide basis.

Surrogate Country

Since the Preliminary Results, no interested party has commented on the selection of the Philippines as the surrogate country. Therefore, we continue to determine that the Philippines is the appropriate surrogate country for the final results of these new shipper reviews.

Separate Rates

The Department found in the Preliminary Results that because Wanvog was wholly foreign-owned, further analysis is not necessary to determine whether Wanvog's export activities are independent from government control.²⁵ The Department also found in the Preliminary Results that Cadman and Huansheng both demonstrated a lack of de jure and de facto government control with respect to their export activities, and preliminarily determined that they were eligible for a separate rate.²⁶ No party has contested the separate rate status of Cadman, Huansheng, or Wanvog during the POR. Therefore, for the final results, we continue to determine that Wanvog, Cadman, and Huansheng are eligible for a separate rate.

²⁵ See Preliminary Results, 75 FR at 72797.

²⁶ See id.

Final Results of the New Shipper Reviews

The Department has determined that the following final dumping margins exist for the period January 1, 2009, through December 31, 2009:

Exporter-Producer | Weighted-average margin (percent)
Dongguan Huansheng Furniture Co., Ltd., Exporter/Producer | 0.00
Wanvog Furniture (Kunshan) Co., Ltd., Exporter/Producer | 0.00
Hangzhou Cadman Trading Co., Ltd., Exporter, and Haining Changbei Furniture Co., Ltd., Producer | 0.00

Assessment

The Department will determine, and U.S. Customs and Border Protection (“CBP”) shall assess, antidumping duties on all appropriate entries pursuant to 19 CFR 351.212(b). For importers/customers of a respondent where the respondent reported entered values, we have calculated an ad valorem rate for that importer/customer by dividing the total amount of antidumping duties calculated for the examined sales of subject merchandise by the total entered value of those transactions. The Department intends to issue assessment instructions to CBP 15 days after the date of publication of the final results of these new shipper reviews. Where an importer-specific ad valorem rate is de minimis, the Department will order CBP to liquidate appropriate entries without regard to antidumping duties.

Cash Deposit Requirements

The following cash deposit requirements will be effective upon publication of the final results of these new shipper reviews for all shipments of the subject merchandise entered, or withdrawn from warehouse, for consumption on or after the publication date, as provided for by section 751(a)(2)(C) of the Act: (1) For the exporter/producer combinations listed in the table above, the cash deposit rate will be the rate shown for that combination; (2) for subject merchandise exported by Huansheng but not produced by Huansheng, exported by Wanvog but not produced by Wanvog, and exported by Cadman but not produced by Haining Changbei Furniture Co., Ltd. (“Haining Changbei”), the cash deposit rate will continue to be the PRC-wide rate of 216.01 percent; (3) for subject merchandise produced by Huansheng but not exported by Huansheng or produced by Wanvog but not exported by Wanvog, the cash deposit rate will be the rate applicable to the exporter; and (4) for subject merchandise produced by Haining Changbei but not exported by Cadman, the cash deposit rate will be the rate applicable to the exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing these final results and notice in accordance with sections 751(a)(2)(B), 751(a)(2)(C), and 777(i) of the Act and 19 CFR 351.214(h) and 19 CFR 351.221(b)(5).

Dated: February 14, 2011.
Ronald K. Lorentzen,
Deputy Assistant Secretary for Import Administration.

Appendix I

Issue 1: Financial Ratios

Issue 2: Surrogate Value for Wanvog's EPE Input

Issue 3: Surrogate Value for Brokerage and Handling

[FR Doc. 2011-3908 Filed 2-18-11; 8:45 am]

BILLING CODE 3510-DS-P